DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages.

Dates and Times: January 31, 2005, 8:30 a.m.-5 p.m. February 1, 2005, 8:30 a.m.-5 p.m. February 2, 2005, 8:30 a.m.-2 p.m.

Place: The DoubleTree Hotel, 1750 Rockville Pike, Rockville, MD 20852.

Status: The meeting will be open to the public.

Agenda: Agenda items will include, but not be limited to: Welcome; plenary session on Allied Health issues as they relate to the grant programs under the purview of the Committee with presentations by speakers representing the Department of Health and Human Services (DHHS), constituent groups, field experts and committee members. The following topics will be addressed at the meeting: What are HRSA/BHPr's Allied Health projects and what does the legislation dictate; what is the past history, current status, and future outlook of Allied Health; and, what is the Allied Health Reinvestment Act (S. 2491/H.R. 4016—108th Congress).

Proposed agenda items are subject to change as priorities dictate.

Public Comments: Public comment will be permitted at the end of the Committee meeting on January 31, 2005, and before lunch on February 1, 2005. Oral presentations will be limited to 5 minutes per public speaker. Persons interested in providing an oral presentation should submit a written request, with a copy of their presentation to: Ann Bell, Public Health Fellow, Division of State, Community and Public Health, Bureau of Health Professions, Health Resources and Services Administration, Room 8A-09, 5600 Fishers Lane, Rockville, Maryland 20857, Telephone (301) 443-0582.

Requests should contain the name, address, telephone number, and any business or professional affiliation of the person desiring to make an oral presentation. Groups having similar interests are requested to combine their comments and present them through a single representative. The Division of State, Community and Public Health will notify each presenter by mail or telephone of their assigned presentation time.

Persons who do not file a request in advance for a presentation, but wish to make an oral statement may register to do so at the DoubleTree Hotel, Rockville, MD, on January 31, 2005. These persons will be allocated time as the Committee meeting agenda permits.

For Further Information Contact: Anyone requiring information regarding the Committee should contact Ann Bell, Division of State, Community and Public Health, Bureau of Health Professions, Health Resources and Services Administration, Room 8A-09, 5600 Fishers Lane, Rockville, Maryland 20857, Telephone (301) 443-0582.

Dated: January 7, 2005.
Steven A. Pelovitz,
Associate Administrator for Administration and Financial Management.

[FR Doc. 05-670 Filed 1-12-05; 8:45 am]

BILLING CODE 4165-15-P